DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Cascade County, Montana
Docket No.: FEMA-B-1214
Montana | Unincorporated Areas of Cascade County | Missouri River (near Mid Canon) | Approximately 200 feet upstream of I-15 (westbound) | +3433
|  |  | Approximately 1.2 miles upstream of I-15 (eastbound) | +3440
* National Geodetic Vertical Datum.
+ North American Vertical Datum.
# Depth in feet above ground.
‸ Mean Sea Level, rounded to the nearest 0.1 meter.
ADDRESSES
Unincorporated Areas of Cascade County
Maps are available for inspection at 121 4th Street North, Suites 2H-2I, Great Falls, MT 59401.

Flooding source(s) | Location of referenced elevation | * Elevation in feet (NGVD) + Elevation in feet (NAVD) # Depth in feet above ground ‸ Elevation in meters (MSL) Effective Modified | Communities affected
Trigg County, Kentucky, and Incorporated Areas
Docket No.: FEMA-B-1115 and B-1207
Barnett Creek (Backwater effects from Kentucky Lake) | From the confluence with Kentucky Lake to approximately 2,324 feet upstream of the confluence with Kentucky Lake | +375 | Unincorporated Areas of Trigg County.
Beechy Fork (Backwater effects from Lake Barkley) | From the confluence with Lake Barkley to approximately 0.75 mile upstream of the confluence with Lake Barkley | +375 | Unincorporated Areas of Trigg County.
Big Hurricane Creek (Backwater effects from Lake Barkley) | From the confluence with Lake Barkley to approximately 2,185 feet upstream of the confluence with Lake Barkley | +375 | Unincorporated Areas of Trigg County.
Blockhouse Creek (Backwater effects from Kentucky Lake) | From the confluence with Kentucky Lake to approximately 1,850 feet upstream of the confluence with Kentucky Lake | +375 | Unincorporated Areas of Trigg County.
Colson Creek (Backwater effects from Kentucky Lake) | From the confluence with Kentucky Lake to approximately 1,426 feet upstream of the confluence with Kentucky Lake | +375 | Unincorporated Areas of Trigg County.
Craig Branch (Backwater effects from Lake Barkley) | From the confluence with Lake Barkley to approximately 0.6 mile upstream of the confluence with Lake Barkley | +375 | Unincorporated Areas of Trigg County.
Crooked Creek (Backwater effects from Lake Barkley) | From the confluence with Lake Barkley to approximately 0.8 mile upstream of the confluence with Lake Barkley | +375 | Unincorporated Areas of Trigg County.
Cumberland River Tributary 1 (Backwater effects from Lake Barkley) | From the confluence with Lake Barkley to approximately 2,538 feet upstream of the confluence with Lake Barkley | +375 | Unincorporated Areas of Trigg County.
Donaldson Creek (Backwater effects from Lake Barkley) | From the confluence with Lake Barkley to approximately 1.0 mile upstream of Linton Road | +375 | Unincorporated Areas of Trigg County.
Donaldson Creek Tributary 1 (Backwater effects from Lake Barkley) | From the confluence with Donaldson Creek to approximately 1,200 feet upstream of the confluence with Donaldson Creek | +375 | Unincorporated Areas of Trigg County.
Donaldson Creek Tributary 19 (Backwater effects from Lake Barkley) | From the confluence with Donaldson Creek to approximately 1,315 feet upstream of the confluence with Donaldson Creek | +375 | Unincorporated Areas of Trigg County.
Dry Creek (Backwater effects from Lake Barkley) | From the confluence with Lake Barkley to approximately 0.56 mile upstream of the confluence with Lake Barkley | +375 | Unincorporated Areas of Trigg County.
Dry Creek I (Backwater effects from Lake Barkley) | From the confluence with Muddy Fork Little River to approximately 2,430 feet upstream of the confluence with Muddy Fork Little River | +375 | Unincorporated Areas of Trigg County.
Dyers Creek (Backwater effects from Lake Barkley) | From the confluence with Lake Barkley to approximately 2,335 feet upstream of the confluence with Lake Barkley | +375 | Unincorporated Areas of Trigg County.
Dyers Creek Tributary 1.1 (Backwater effects from Lake Barkley) | From the confluence with Dyers Creek to approximately 1,030 feet upstream of the confluence with Dyers Creek | +375 | Unincorporated Areas of Trigg County.
Elbow Creek (Backwater effects from Lake Barkley) | From the confluence with Lake Barkley to approximately 2,715 feet upstream of the confluence with Lake Barkley | +375 | Unincorporated Areas of Trigg County.
Hopson Creek (Backwater effects from Lake Barkley) | From the confluence with Lake Barkley to approximately 0.54 mile upstream of the confluence with Lake Barkley | +375 | Unincorporated Areas of Trigg County.
Jake Fork (Backwater effects from Lake Barkley) | From the confluence with Lake Barkley to approximately 1,407 feet upstream of the confluence with Lake Barkley | +375 | Unincorporated Areas of Trigg County.
Kelly Branch (Backwater effects from Lake Barkley) | From the confluence with Lake Barkley to approximately 0.57 mile upstream of the confluence with Lake Barkley | +375 | Unincorporated Areas of Trigg County.
Kentucky Lake | Entire shoreline within county | +375 | Unincorporated Areas of Trigg County.
Lake Barkley | Entire shoreline within county | +375 | Unincorporated Areas of Trigg County.
Laura Furnace Creek (Backwater effects from Lake Barkley) | From the confluence with Lake Barkley to approximately 0.71 mile upstream of the confluence with Lake Barkley | +375 | Unincorporated Areas of Trigg County.
Lick Creek (Backwater effects from Lake Barkley) | From the confluence with Lake Barkley to approximately 0.55 mile upstream of the confluence with Lake Barkley | +375 | Unincorporated Areas of Trigg County.
Little Creek (Backwater effects from Lake Barkley) | From the confluence with Lake Barkley to approximately 0.78 mile upstream of the confluence with Lake Barkley | +375 | Unincorporated Areas of Trigg County.
Little Hurricane Creek (Backwater effects from Lake Barkley) | From the confluence with Lake Barkley to approximately 2,280 feet upstream of the confluence with Lake Barkley | +375 | Unincorporated Areas of Trigg County.
Little River (Backwater effects from Lake Barkley) | Approximately 3.7 miles upstream of the Lake Barkley confluence to approximately 4.5 miles upstream of the Lake Barkley confluence | +375 | City of Cadiz, Unincorporated Areas of Trigg County.
Little River Tributary 1 (Backwater effects from Lake Barkley) | Approximately 500 feet upstream of the Little River confluence to approximately 1,678 feet upstream of the Little River confluence | +375 | City of Cadiz, Unincorporated Areas of Trigg County.
Little River Tributary 40 (Backwater effects from Lake Barkley) | From the confluence with the Little River to approximately 1,330 feet upstream of the confluence with the Little River | +375 | Unincorporated Areas of Trigg County.
Long Creek (Backwater effects from Lake Barkley) | From the confluence with Lake Barkley to approximately 0.83 mile upstream of the confluence with Lake Barkley | +375 | Unincorporated Areas of Trigg County.
Long Pond Branch (Backwater effects from Lake Barkley) | From the confluence with Lake Barkley to approximately 1,793 feet upstream of the confluence with Lake Barkley | +375 | Unincorporated Areas of Trigg County.
Muddy Fork Little River (Backwater effects from Lake Barkley) | From the confluence with Lake Barkley to approximately 0.8 mile upstream of Princeton Road | +375 | Unincorporated Areas of Trigg County.
North Fork Sugar Creek (Backwater effects from Kentucky Lake) | From the confluence with Kentucky Lake to approximately 0.57 mile upstream of the confluence with Kentucky Lake | +375 | Unincorporated Areas of Trigg County.
Pond Creek (Backwater effects from Lake Barkley) | From the confluence with Lake Barkley to approximately 0.6 mile upstream of the confluence with Lake Barkley | +375 | Unincorporated Areas of Trigg County.
Rhodes Creek (Backwater effects from Kentucky Lake) | From the confluence with Kentucky Lake to approximately 0.54 mile upstream of the confluence with Kentucky Lake | +375 | Unincorporated Areas of Trigg County.
Shaw Branch (Backwater effects from Lake Barkley) | From the confluence with Lake Barkley to approximately 1,740 feet upstream of the confluence with Lake Barkley | +375 | Unincorporated Areas of Trigg County.
Shelly Creek (Backwater effects from Lake Barkley) | From the confluence with Lake Barkley to approximately 0.52 mile upstream of the confluence with Lake Barkley | +375 | Unincorporated Areas of Trigg County.
Taylor Creek (Backwater effects from Lake Barkley) | From the confluence with Lake Barkley to approximately 2,435 feet upstream of the confluence with Lake Barkley | +375 | Unincorporated Areas of Trigg County.
Turkey Creek (Backwater effects from Kentucky Lake) | From the confluence with Kentucky Lake to approximately 0.54 mile upstream of the confluence with Kentucky Lake | +375 | Unincorporated Areas of Trigg County.
Vickers Creek (Backwater effects from Kentucky Lake) | From the confluence with Kentucky Lake to approximately 2,376 feet upstream of the confluence with Kentucky Lake | +375 | Unincorporated Areas of Trigg County.
West Fork Laura Furnace Creek (Backwater effects from Lake Barkley) | From the confluence with Laura Furnace Creek to approximately 1,247 feet upstream of the confluence with Laura Furnace Creek | +375 | Unincorporated Areas of Trigg County.
* National Geodetic Vertical Datum.
+ North American Vertical Datum.
# Depth in feet above ground.
‸ Mean Sea Level, rounded to the nearest 0.1 meter.
ADDRESSES
City of Cadiz
Maps are available for inspection at 63 Main Street, Cadiz, KY 42211.
Unincorporated Areas of Trigg County
Maps are available for inspection at the Trigg County Courthouse, 12 Court Street, Cadiz, KY 42211.

Flooding source(s) | Location of referenced elevation | * Elevation in feet (NGVD) +Elevation in feet (NAVD) # Depth in feet above ground ‸ Elevation in meters (MSL) Modified | Communities affected
Bossier Parish, Louisiana, and Incorporated Areas
Docket No.: FEMA-B-1196
Flat River | Approximately 2.0 miles downstream of State Route 527 | +153 | City of Bossier City, Unincorporated Areas of Bossier Parish.
| Approximately 0.42 mile downstream of State Route 612 (Sligo Road) | +155
Red Chute Bayou | At Smith Road | +153 | Unincorporated Areas of Bossier Parish.
| Approximately 1,125 feet downstream of State Route 612 (Sligo Road) | +157
* National Geodetic Vertical Datum.
+ North American Vertical Datum.
# Depth in feet above ground.
‸ Mean Sea Level, rounded to the nearest 0.1 meter.
ADDRESSES
City of Bossier City
Maps are available for inspection at City Hall, 620 Benton Road, Bossier City, LA 71171.
Unincorporated Areas of Bossier Parish
Maps are available for inspection at the Bossier Parish Courthouse, 204 Burt Boulevard, Benton, LA 71006.
Carroll County, New Hampshire (All Jurisdictions)
Docket No.: FEMA-B-1207
Bay Tributary 1 | At the Moultonborough Bay confluence | +506 | Town of Moultonborough.
| Approximately 1.09 miles upstream of the Bay Tributary 1.1 divergence | +547
Bay Tributary 1.1 | At the Moultonborough Bay confluence | +506 | Town of Moultonborough.
| At the Bay Tributary 1 divergence | +515
Bearcamp River | At the upstream side of Covered Bridge Road | +429 | Town of Ossipee.
| Approximately 520 feet upstream of Covered Bridge Road | +431
Bearcamp River | Approximately 2.06 miles upstream of State Route 113 (Tamworth Road) | +566 | Town of Tamworth.
| Approximately 2.15 miles upstream of State Route 113 (Tamworth Road) | +570
Berry Pond/Berry Pond Tributary 1 | Approximately 150 feet upstream of State Route 25 (Whittier Highway) | +568 | Town of Moultonborough, Town of Sandwich.
| Approximately 2.6 miles upstream of State Route 25 (Whittier Highway) | +622
Berry Pond Diversion | At the Red Hill River confluence | +536 | Town of Moultonborough.
| At the Berry Pond divergence | +569
East Branch Saco River | Approximately 160 feet upstream of U.S. Route 302B (State Route 16A) | +566 | Town of Bartlett, Town of Jackson.
| Approximately 0.63 miles upstream of Town Hall Road | +836
Halfway Brook | At the Moultonborough Bay confluence | +506 | Town of Moultonborough.
| Approximately 1.29 miles upstream of Ossipee Mountain Road | +1428
Halfway Brook Tributary 1 | At the Halfway Brook confluence | +529 | Town of Moultonborough.
| Approximately 0.88 miles upstream of the Halfway Brook confluence | +541
Moultonborough Bay | Entire shoreline | +506 | Town of Moultonborough.
Ossipee Lake | Entire shoreline | +414 | Town of Effingham.
Pequawket Pond | Entire shoreline within community | +464 | Town of Albany.
Province Lake | Entire shoreline | +480 | Town of Effingham.
Red Hill River | At the Moultonborough Bay confluence | +506 | Town of Moultonborough, Town of Sandwich.
| Approximately 1.70 miles upstream of School House Road | +587
Red Hill River Tributary 1 | At the Red Hill River confluence | +536 | Town of Moultonborough.
| Approximately 0.80 miles upstream of Sheridan Road | +878
Red Hill River Tributary 1 Diversion | At the Red Hill River confluence | +536 | Town of Moultonborough.
| At the Red Hill River Tributary 1 divergence | +600
Rocky Branch | Approximately 70 feet upstream of U.S. Route 302 (Crawford Notch Road) | +574 | Town of Bartlett.
| Approximately 520 feet upstream of U.S. Route 302 (Crawford Notch Road) | +576
Rocky Branch | Approximately 0.47 miles upstream of U.S. Route 302 (Crawford Notch Road) | +608 | Town of Bartlett.
| Approximately 0.90 miles upstream of U.S. Route 302 (Crawford Notch Road) | +656
Saco River | Approximately 1,970 feet upstream of Maine Central Railroad | +756 | Town of Hart's Location.
| Approximately 0.85 miles upstream of Maine Central Railroad | +772
Shannon Brook | At the Moultonborough Bay confluence | +506 | Town of Moultonborough.
| Approximately 1.07 miles upstream of State Route 171 (Old Mountain Road) | +1202
Shannon Brook Tributary 1 | At the Shannon Brook confluence | +550 | Town of Moultonborough.
| Approximately 400 feet upstream of State Route 109 (Governor Wentworth Highway) | +588
Squam Lake | Entire shoreline | +565 | Town of Moultonborough, Town of Sandwich.
Weed Brook | At the Berry Pond confluence | +569 | Town of Moultonborough, Town of Sandwich.
| Approximately 650 feet upstream of State Route 25 (Whittier Highway) | +701
Weed Brook Diversion | At the Weed Brook Tributary 1 confluence | +569 | Town of Moultonborough.
| At the Weed Brook divergence | +585
Weed Brook Tributary 1 | At the Weed Brook confluence | +600 | Town of Moultonborough.
| Approximately 1,700 feet upstream of Bodge Hill Road | +785
Wildcat Brook | Approximately 1,560 feet downstream of Meloon Road | +1115 | Town of Jackson.
| Approximately 120 feet downstream of Meloon Road | +1176
* National Geodetic Vertical Datum.
+ North American Vertical Datum.
# Depth in feet above ground.
‸ Mean Sea Level, rounded to the nearest 0.1 meter.
ADDRESSES
Town of Albany
Maps are available for inspection at Town Hall, 1972-A State Route 16, Albany, NH 03818.
Town of Bartlett
Maps are available for inspection at Bartlett Town Hall, 56 Town Hall Road, Intervale, NH 03845.
Town of Effingham
Maps are available for inspection at the Town Hall, 68 School Street, Effingham, NH 03882.
Town of Hart's Location
Maps are available for inspection at the Town Hall, 979 U.S. Route 302, Hart's Location, NH 03812.
Town of Jackson
Maps are available for inspection at the Town Hall, 54 Main Street, Jackson, NH 03846.
Town of Moultonborough
Maps are available for inspection at the Town Hall, 6 Holland Street, Moultonborough, NH 03254.
Town of Ossipee
Maps are available for inspection at Ossipee Town Hall, 55 Main Street, Center Ossipee, NH 03814.
Town of Sandwich
Maps are available for inspection at Sandwich Town Hall, 8 Maple Street, Center Sandwich, NH 03227.
Town of Tamworth
Maps are available for inspection at theTown Hall, 84 Main Street, Tamworth, NH 03886.
Washington County, Vermont (All Jurisdictions)
Docket No.: FEMA-B-1074
Great Brook No. 1 | At the confluence with Winooski River | +501 | Town of Middlesex.
| Approximately 140 feet downstream of U.S. Route 2 | +501
Gunners Brook | At the downstream side of Brook Street | +596 | City of Barre.
| Approximately 80 feet upstream of Brook Street | +616
Mad River | At the confluence with Winooski River | +454 | Town of Moretown.
| Approximately 950 feet upstream of confluence with Winooski River | +454
Mirror Lake | Entire shoreline | +1047 | Town of Calais.
North Montpelier Pond | Entire shoreline | +708 | Town of Calais, Town of East Montpelier.
Stevens Branch | At the confluence with Winooski River | +544 | Town of Barre, City of Barre, City of Montpelier, Town of Berlin.
| At county boundary (approximately 2.0 miles upstream of Snowbridge Road) | +740
Sunny Brook of Winooski River | At the confluence with Winooski River | +510 | Town of Middlesex.
| At downstream side of New England Central Railroad | +510
Thatcher Brook | Approximately 225 feet upstream of Stowe Street | +502 | Town of Waterbury.
| Approximately 1,100 feet upstream of Stowe Street | +503
Union Brook | At the confluence with Dog River | +728 | Village of Northfield.
| Approximately 60 feet upstream of Water Street | +728
Winooski River | At Chittenden County Boundary (approximately 13,080 feet downstream of Bolton Falls Dam) | +342 | Town of Middlesex, City of Montpelier, Town of Berlin, Town of Duxbury, Town of East Montpelier, Town of Moretown, Town of Waterbury, Village of Waterbury.
| At downstream side of Green Mountain Power No. 4 Dam | +595
# Depth in feet above ground.
+ North American Vertical Datum.
* National Geodetic Vertical Datum.
ADDRESSES
City of Barre
Maps are available for inspection at City Hall, 6 North Main Street, Barre, VT 05641.
City of Montpelier
Maps are available for inspection at the Planning, Zoning, and Community Development Department, City Hall, 39 Main Street, Montpelier, VT 05602.
Town of Barre
Maps are available for inspection at the Barre Town Clerk's Office, 149 Websterville Road, Websterville, VT 05678.
Town of Berlin
Maps are available for inspection at the Town Zoning Office, 108 Shed Road, Berlin, VT 05602.
Town of Calais
Maps are available for inspection at the Town Clerk's Office, 3120 Pekin Brook Road, East Calais, VT 05650.
Town of Duxbury
Maps are available for inspection at the Town Office, 5421 Vermont Route 100, Duxbury, VT 05676.
Town of East Montpelier
Maps are available for inspection at the Town Hall, 40 Kelton Road, East Montpelier, VT 05651.
Town of Middlesex
Maps are available for inspection at the Town Clerk's Office, 5 Church Street, Middlesex, VT 05602.
Town of Moretown
Maps are available for inspection at the Town Clerk's Office, 994 Vermont Route 100B, Moretown, VT 05660.
Town of Waterbury
Maps are available for inspection at the Waterbury Municipal Offices, 51 South Main Street, Waterbury, VT 05676.
Village of Northfield
Maps are available for inspection at the Zoning Office, 51 South Main Street, Northfield, VT 05663.
Village of Waterbury
Maps are available for inspection at the Waterbury Municipal Offices, 51 South Main Street, Waterbury, VT 05676.

(Catalog of Federal Domestic Assistance No. 97.022, “Flood Insurance.”)

James A. Walke,
Acting Deputy Associate Administrator for Mitigation, Department of Homeland Security, Federal Emergency Management Agency.

[FR Doc. 2013-01625 Filed 1-25-13; 8:45 am]

BILLING CODE 9110-12-P